DEPARTMENT OF TRANSPORTATION

Research and Special Programs Administration (RSPA)

[Docket No. RSPA-98-4470]

Pipeline Safety: Meetings of Pipeline Safety Advisory Committees

AGENCY: Office of Pipeline Safety, Research and Special Programs Administration, DOT.

ACTION: Notice of advisory committee meetings.

SUMMARY: Pursuant to section 10(a)(2) of the Federal Advisory Committee Act (Pub. L. 92-463, 5 U.S.C. App. 1) notice is given of the following meetings of the Technical Pipeline Safety Standards Committee (TPSSC) and the Technical Hazardous Liquid Pipeline Safety Standards Committee (THLPSSC). Both the TPSSC and the THLPSSC are statutorily mandated advisory committees that advise the RSPA's Office of Pipeline Safety (OPS) on proposed safety standards and other safety policies for hazardous liquid and natural gas pipelines. Each committee has an authorized membership of 15 persons—five each representing government, industry, and the public. The committees typically meet twice a year, in May and November. However, the next advisory committee meetings will be held on February 6-7, 2001, to allow the committees to review several proposed rules early in the year to allow for the timely completion of these projects.

ADDRESSES: You may submit written comments by mail or deliver to the Dockets Facility, U.S. Department of Transportation, Room PL-401, 400 Seventh Street, SW., Washington, DC 20590-0001. It is open from 10 a.m. to 5 p.m., Monday through Friday, except federal holidays. You also may submit written comments to the docket electronically. To do so, log onto the following Internet Web address: http://dms.dot.gov. Click on “Help & Information” for instructions on how to file a document electronically. All written comments should identify the docket number stated in the heading of this notice. Anyone desiring confirmation of mailed comments must include a self-addressed stamped postcard.

The conference room numbers for this meeting will be posted on the OPS web page approximately 15 days before the meeting date at http://ops.dot.gov.

Information on Services for Individuals With Disabilities

For information on facilities or services for individuals with disabilities or to request special assistance at the meeting, contact Juan Carlos Martinez at (202) 366-1933.

FOR FURTHER INFORMATION CONTACT: Cheryl Whetsel, OPS, (202) 366-4431 or Richard Huriaux, OPS, (202) 366-4565, regarding the subject matter of this notice.

SUPPLEMENTARY INFORMATION: On Tuesday, February 6, 2001, at 9 a.m., the Technical Pipeline Safety Standards Committee (TPSSC) will meet. The preliminary agenda includes discussion of the following issues:

1. Pipeline Integrity Management in High Consequence Areas (Gas Transmission Pipeline).

2. Revision to Gas Incident/Annual Report Form.

3. Gas Gathering Line Definition.

4. Plastic Pipe Data Committee.

On Tuesday, February 6, 2001, from 1-4 p.m., the TPSSC will be joined by members of the Technical Hazardous Liquid Pipeline Safety Standards Committee (THLPSSC) for a joint session. The preliminary agenda includes discussion of the following topics:

1. An Overview of the State of the Pipeline Safety Program (including Reauthorization, Inspector General and General Accounting Office Reports, and National Transportation Safety Board Recommendations, Research and Development Plans).

2. Drug Testing—Notice of Proposed Rulemaking (Vote).

On Wednesday, February 7, 2001, from 9 a.m.-11 a.m., the joint meeting will continue with a demonstration of the National Pipeline Mapping System (NPMS). The Committee will also hear a report on concepts for community right-to-know reporting.

The Technical Hazardous Liquid Pipeline Safety Standards Committee will meet on Wednesday afternoon from 1 p.m.-4 p.m. The preliminary agenda includes discussion of the following topics:

1. Producer—Operated Outer Continental Shelf Gas & Hazardous Liquid Pipelines that Cross Directly into State Water—Notice of Proposed Rulemaking (Vote).

2. Pipeline Integrity Management in High Consequence Areas for Hazardous Liquid Pipelines < 500 Miles—Notice of Proposed Rulemaking (Vote).

3. Controlling Corrosion on Hazardous Liquid and Carbon Dioxide Pipelines—Notice of Proposed Rulemaking (Vote).

4. Advisory on Response Plans Under the Oil Pollution Act.

All three meetings are open to the public. An opportunity will be provided for the public to make short statements on the topics under discussion. Anyone wishing to make an oral statement should notify Juan Carlos Martinez, Room 7128, Department of Transportation, Nassif Building, 400 Seventh Street, SW., Washington, DC 20590, telephone (202) 366-1933, not later than January 26, 2001, on the topic of the statement and the time requested for presentation. The presiding officer at each meeting may deny any request to present an oral statement and may limit the time of any presentation.

Authority: 49 U.S.C. 60102, 60115.

Issued in Washington, DC on December 22, 2000.
Stacey L. Gerard,
Associate Administrator for Pipeline Safety.

[FR Doc. 00-33255 Filed 12-29-00; 8:45 am]

BILLING CODE 4910-60-P